DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual Regulatory Agenda, Spring 2019

AGENCY: Office of the Secretary, USDA.

ACTION: Semiannual regulatory agenda.

SUMMARY: This agenda provides summary descriptions of the significant and not significant regulatory and deregulatory actions being developed in agencies of the U.S. Department of Agriculture (USDA) in conformance with Executive Orders (E.O.) 12866 “Regulatory Planning and Review,” 13563, “Improving Regulation and Regulatory Review,” 13771 “Reducing Regulation and Controlling Regulatory Costs,” and 13777, “Enforcing the Regulatory Reform Agenda.” The agenda also describes regulations affecting small entities as required by section 602 of the Regulatory Flexibility Act, Public Law 96-354. This agenda also identifies regulatory actions that are being reviewed in compliance with section 610(c) of the Regulatory Flexibility Act. We invite public comment on those actions as well as any regulation consistent with Executive Order 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

FOR FURTHER INFORMATION CONTACT: For further information on any specific entry shown in this agenda, please contact the person listed for that action. For general comments or inquiries about the agenda, please contact Michael Poe, Office of Budget and Program Analysis, U.S. Department of Agriculture, Washington, DC 20250, (202) 720-3257.

Dated: March 11, 2019.
Michael Poe,
Legislative and Regulatory Staff.

Agricultural Marketing Service—Proposed Rule Stage
Sequence No. | Title | Regulation Identifier No.
1 | Undue and Unreasonable Preferences and Advantages Under the Packers and Stockyards Act | 0581-AD81
2 | Establishment of a Milk Donation Program | 0581-AD87

Agricultural Marketing Service—Final Rule Stage
Sequence No. | Title | Regulation Identifier No.
3 | Establishment of a Domestic Hemp Production Program | 0581-AD82

Agricultural Marketing Service—Completed Actions
Sequence No. | Title | Regulation Identifier No.
4 | National Bioengineered Food Disclosure Standard | 0581-AD54

Animal and Plant Health Inspection Service—Final Rule Stage
Sequence No. | Title | Regulation Identifier No.
5 | Plant Pest Regulations; Update of General Provisions | 0579-AC98
6 | Bovine Spongiform Encephalopathy and Scrapie; Importation of Small Ruminants and Their Germplasm, Products, and Byproducts | 0579-AD10
7 | Lacey Act Implementation Plan: De Minimis Exception | 0579-AD44

Animal and Plant Health Inspection Service—Long-Term Actions
Sequence No. | Title | Regulation Identifier No.
8 | Brucellosis and Bovine Tuberculosis; Update of General Provisions | 0579-AD65
9 | Importation of Fresh Citrus Fruit From the Republic of South Africa Into the Continental United States | 0579-AD95
10 | Removal of Emerald Ash Borer Domestic Quarantine Regulations | 0579-AE42

Animal and Plant Health Inspection Service—Completed Actions
Sequence No. | Title | Regulation Identifier No.
11 | Scrapie in Sheep and Goats | 0579-AC92
12 | Branding Requirements for Bovines Imported Into the United States From Mexico | 0579-AE38

Food Safety and Inspection Service—Completed Actions
Sequence No. | Title | Regulation Identifier No.
13 | Performance Standards for the Production of Processed Meat and Poultry Products | 0583-AC46

DEPARTMENT OF AGRICULTURE (USDA)

Agricultural Marketing Service (AMS)

Proposed Rule Stage

1. • Undue and Unreasonable Preferences and Advantages Under the Packers and Stockyards Act

E.O. 13771 Designation: Regulatory.

Legal Authority: Pub. L. 110-234

Abstract: This action would invite comments on proposed revisions to regulations issued under the Packers and Stockyards Act (P&S Act). The revisions would specify criteria the Secretary could consider in determining whether conduct or action by packers, swine contractors, or live poultry dealers constitutes an undue or unreasonable preference or advantage and a violation of the P&S Act.

Timetable:

Action | Date | FR Cite
NPRM | 06/00/19 |

Regulatory Flexibility Analysis Required: Yes.

Agency Contact: Michael V. Durando, Associate Deputy Administrator, Fair Trade Practices Program, Department of Agriculture, Agricultural Marketing Service, 1400 Independence Avenue SW, Washington, DC 20250-0237, Phone: 202 720-0219.

RIN: 0581-AD81

2. • Establishment of a Milk Donation Program

E.O. 13771 Designation: Other.

Legal Authority: Pub. L. 104-127

Abstract: This action begins the rulemaking process to establish a Milk Donation Program as mandated by the Agriculture Improvement Act of 2018 (2018 Farm Bill). The proposed program would allow milk processors who account to Federal milk marketing orders (FMMO) to claim limited reimbursements for the cost of farm milk used to make donated fluid milk products. Under the program, processors would partner with non-profit organizations to distribute the donated products to individuals in low-income groups.

Timetable:

Action | Date | FR Cite
NPRM | 07/00/19 |

Regulatory Flexibility Analysis Required: Yes.

Agency Contact: Erin Taylor, Acting Director, Order Formulation and Enforcement Division, Department of Agriculture, Agricultural Marketing Service, Dairy Program, 1400 Independence Ave. SW, Room 2969-S, Washington, DC 20250, Phone: 202 720-7311, Email: erin.taylor@ams.usda.gov.

RIN: 0581-AD87

DEPARTMENT OF AGRICULTURE (USDA)

Agricultural Marketing Service (AMS)

Final Rule Stage

3. • Establishment of a Domestic Hemp Production Program

E.O. 13771 Designation: Deregulatory.

Legal Authority: 7 U.S.C. 1621

Abstract: This action will initiate a new part 990 establishing rules and regulations for the domestic production of hemp. This action is required to implement provisions of the Agriculture Improvement Act of 2018 (Farm Bill).

Timetable:

Action | Date | FR Cite
Interim Final Rule | 08/00/19 |

Regulatory Flexibility Analysis Required: Yes.

Agency Contact: Sonia Jimenez, Deputy Administrator, Specialty Crops Program, Department of Agriculture, Agricultural Marketing Service, 14th and Independence Avenue SW, South Building, Washington, DC 20050-6456, Phone: 202 720-4722, Email: sonia.jimenez@usda.gov.

RIN: 0581-AD82

DEPARTMENT OF AGRICULTURE (USDA)

Agricultural Marketing Service (AMS)

Completed Actions

4. National Bioengineered Food Disclosure Standard

E.O. 13771 Designation: Other.

Legal Authority: Pub. L. 114-216; 7 U.S.C. 1621 to 1627

Abstract: On July 29, 2016, the Agricultural Marketing Act of 1946 was amended to establish a National Bioengineered Food Disclosure Standard (Law) (Pub. L. 114-216). The provisions of this rule, pursuant to the law, will serve as a national mandatory bioengineered food disclosure standard for bioengineered food and food that may be bioengineered.

Completed:

Reason | Date | FR Cite
Final Action | 12/21/18 | 83 FR 65814
Final Rule Effective | 02/19/19 |

Regulatory Flexibility Analysis Required: Yes.

Agency Contact: Arthur Neal, Phone: 202 692-1300.

RIN: 0581-AD54

BILLING CODE 3410-02-P

DEPARTMENT OF AGRICULTURE (USDA)

Animal and Plant Health Inspection Service (APHIS)

Final Rule Stage

5. Plant Pest Regulations; Update of General Provisions

E.O. 13771 Designation: Deregulatory.

Legal Authority: 7 U.S.C. 450; 7 U.S.C. 2260; 7 U.S.C. 7701 to 7772; 7 U.S.C. 7781 to 7786; 7 U.S.C. 8301 to 8817; 21 U.S.C. 111; 21 U.S.C. 114a; 21 U.S.C. 136 and 136a; 31 U.S.C. 9701; 42 U.S.C. 4331 and 4332

Abstract: We are revising our regulations regarding the movement of plant pests. We are also adding criteria to the regulations for the importation, interstate movement, and release of biological control organisms. This final rule also establishes regulations for the importation and interstate movement of certain plant pests and biological control organisms without restriction by establishing a petition process for granting exceptions from permit requirements for those pests and organisms. Finally, we are revising our regulations regarding the importation and interstate movement of soil. This rule clarifies the points that we will consider when assessing the risks associated with the movement and release of certain organisms and facilitates the movement of regulated organisms and articles in a manner that protects U.S. agriculture.

Timetable:

Action | Date | FR Cite
Notice of Intent To Prepare an Environmental Impact Statement | 10/20/09 | 74 FR 53673
Notice Comment Period End | 11/19/09 |
NPRM | 01/19/17 | 82 FR 6980
NPRM Comment Period Extended | 02/13/17 | 82 FR 10444
NPRM Comment Period End | 04/19/17 |
Final Rule | 06/00/19 |

Regulatory Flexibility Analysis Required: Yes.

Agency Contact: Colin Stewart, Assistant Director, Pests, Pathogens, and Biocontrol Permits, PPQ, Department of Agriculture, Animal and Plant Health Inspection Service, 4700 River Road, Unit 133, Riverdale, MD 20737-1236, Phone: 301 851-2237.

RIN: 0579-AC98

6. Bovine Spongiform Encephalopathy and Scrapie; Importation of Small Ruminants and Their Germplasm, Products, and Byproducts

E.O. 13771 Designation: Deregulatory.

Legal Authority: 7 U.S.C. 450; 7 U.S.C. 1622; 7 U.S.C. 7701 to 7772; 7 U.S.C. 7781 to 7786; 7 U.S.C. 8301 to 8317; 21 U.S.C. 136 and 136a; 31 U.S.C. 9701

Abstract: We are amending the regulations governing the importation of animals and animal products to revise conditions for the importation of live sheep, goats, and certain other non-bovine ruminants, and products derived from sheep and goats, with regard to transmissible spongiform encephalopathies such as bovine spongiform encephalopathy (BSE) and scrapie. We are removing BSE-related import restrictions on sheep and goats and most of their products, and adding import restrictions related to transmissible spongiform encephalopathies for certain wild, zoological, or other non-bovine ruminant species. The conditions we are adopting for the importation of specified commodities are based on internationally accepted scientific literature and will, in general, align our regulations with guidelines established in the World Organization for Animal Health's Terrestrial Animal Health Code.

Timetable:

Action | Date | FR Cite
NPRM | 07/18/16 | 81 FR 46619
NPRM Comment Period End | 09/16/16 |
Final Rule | 06/00/19 |

Regulatory Flexibility Analysis Required: Yes.

Agency Contact: Alexandra MacKenzie, Veterinary Medical Officer, Animal Permitting and Negotiating Services, NIES, VS, Department of Agriculture, Animal and Plant Health Inspection Service, 4700 River Road, Unit 39, Riverdale, MD 20737, Phone: 301 851-3300.

RIN: 0579-AD10

7. Lacey Act Implementation Plan: De Minimis Exception

E.O. 13771 Designation: Deregulatory.

Legal Authority: 16 U.S.C. 3371 et seq.

Abstract: The Food, Conservation, and Energy Act of 2008 amended the Lacey Act to provide, among other things, that importers submit a declaration at the time of importation for certain plants and plant products. The declaration requirements of the Lacey Act became effective on December 15, 2008, and enforcement of those requirements is being phased in. We are proposing to establish an exception to the declaration requirement for products containing a minimal amount of plant materials.

Timetable:

Action | Date | FR Cite
ANPRM | 06/30/11 | 76 FR 38330
ANPRM Comment Period End | 08/29/11 |
NPRM | 07/09/18 | 83 FR 31697
NPRM Comment Period End | 09/07/18 |
Final Rule | 12/00/19 |

Regulatory Flexibility Analysis Required: Yes.

Agency Contact: Dorothy Wayson, National Program Coordinator, Lacey Act Program, Compliance and Environmental Coordination, PPQ, Department of Agriculture, Animal and Plant Health Inspection Service, 4700 River Road, Unit 150, Riverdale, MD 20737, Phone: 301 851-2036.

RIN: 0579-AD44

DEPARTMENT OF AGRICULTURE (USDA)

Animal and Plant Health Inspection Service (APHIS)

Long-Term Actions

8. Brucellosis and Bovine Tuberculosis; Update of General Provisions

E.O. 13771 Designation: Regulatory.

Legal Authority: 7 U.S.C. 1622; 7 U.S.C. 8301 to 8317; 15 U.S.C. 1828; 21 U.S.C. 136 and 136a; 31 U.S.C. 9701

Abstract: This rulemaking would consolidate the regulations governing bovine tuberculosis (TB), currently found in 9 CFR part 77, and those governing brucellosis, currently found in 9 CFR part 78. As part of this consolidation, we are proposing to transition the TB and brucellosis programs away from a State status system based on disease prevalence. Instead, States and tribes would implement an animal health plan that identifies sources of the diseases within the State or tribe and specifies mitigations to address the risk posed by these sources. The consolidated regulations also would set forth standards for surveillance, epidemiological investigations, and affected herd management that must be incorporated into each animal health plan, with certain limited exceptions; conditions for the interstate movement of cattle, bison, and captive cervids; and conditions for APHIS approval of tests for bovine TB or brucellosis. Finally, the rulemaking would revise the import requirements for cattle and bison.

Timetable:

Action | Date | FR Cite
NPRM | 12/16/15 | 80 FR 78461
NPRM Comment Period End | 03/15/16 |
NPRM Comment Period Extended | 03/11/16 | 81 FR 12832
NPRM Comment Period Extended End | 05/16/16 |
NPRM—Partial Withdrawal | 03/27/19 | 84 FR 11448
Final Rule | To Be Determined

Regulatory Flexibility Analysis Required: Yes.

Agency Contact: Langston Hull, Phone: 301 851-3300.

C. William Hench, Phone: 970 494-7378.

RIN: 0579-AD65

9. Importation of Fresh Citrus Fruit From the Republic of South Africa Into the Continental United States

E.O. 13771 Designation: Deregulatory.

Legal Authority: 7 U.S.C. 450; 7 U.S.C. 7701 to 7772; 7 U.S.C. 7781 to 7786; 21 U.S.C. 136 and 136a

Abstract: This rulemaking will amend the fruits and vegetables regulations to allow the importation of several varieties of fresh citrus fruit, as well as citrus hybrids, into the continental United States from areas in the Republic of South Africa where citrus black spot has been known to occur. As a condition of entry, the fruit will have to be produced in accordance with a systems approach that includes shipment traceability, packinghouse registration and procedures, and phytosanitary treatment. The fruit will also be required to be imported in commercial consignments and accompanied by a phytosanitary certificate issued by the national plant protection organization of the Republic of South Africa with an additional declaration confirming that the fruit has been produced in accordance with the systems approach. This action will allow for the importation of fresh citrus fruit, including citrus hybrids, from the Republic of South Africa while continuing to provide protection against the introduction of plant pests into the United States.

Timetable:

Action | Date | FR Cite
NPRM | 08/28/14 | 79 FR 51273
NPRM Comment Period End | 10/27/14 |
Next Action Undetermined |  |

Regulatory Flexibility Analysis Required: Yes.

Agency Contact: Tony Román, Phone: 301 851-2242.

RIN: 0579-AD95

10. Removal of Emerald Ash Borer Domestic Quarantine Regulations

E.O. 13771 Designation: Deregulatory.

Legal Authority: 7 U.S.C. 7701 to 7772; 7 U.S.C. 7781 to 7786

Abstract: This rulemaking would remove the domestic quarantine regulations for the plant pest emerald ash borer. This action would discontinue the domestic regulatory component of the emerald ash borer program as a means to more effectively direct available resources toward management and containment of the pest. Funding previously allocated to the implementation and enforcement of these domestic quarantine regulations would instead be directed to a non-regulatory option of research into, and deployment of, biological control agents for emerald ash borer, which would serve as the primary tool to mitigate and control the pest.

Timetable:

Action | Date | FR Cite
NPRM | 09/19/18 | 83 FR 47310
NPRM Comment Period End | 11/19/18 |
Next Action Undetermined |  |

Regulatory Flexibility Analysis Required: Yes.

Agency Contact: Robyn Rose, Phone: 301 851-2283.

RIN: 0579-AE42

DEPARTMENT OF AGRICULTURE (USDA)

Animal and Plant Health Inspection Service (APHIS)

Completed Actions

11. Scrapie in Sheep and Goats

E.O. 13771 Designation: Deregulatory.

Legal Authority: 7 U.S.C. 8301 to 8317

Abstract: We are amending the scrapie regulations by changing the risk groups and categories established for individual animals and for flocks, increasing the use of genetic testing as a means of assigning risk levels to animals, reducing movement restrictions for animals found to be genetically less susceptible or resistant to scrapie, and simplifying, reducing, or removing certain recordkeeping requirements. We are also providing designated scrapie epidemiologists with more alternatives and flexibility when testing animals in order to determine flock designations under the regulations. We are changing the definition of high-risk animal, which will change the types of animals eligible for indemnity, and to pay higher indemnity for certain pregnant ewes and does and early maturing ewes and does. The changes will also make the identification and recordkeeping requirements for goat owners consistent with those for sheep owners. These changes affect sheep and goat producers, persons who handle sheep and goats in interstate commerce, and State governments.

Completed:

Reason | Date | FR Cite
Final Rule | 03/25/19 | 84 FR 11170
Final Rule Effective | 04/24/19 |

Regulatory Flexibility Analysis Required: Yes.

Agency Contact: Diane Sutton, Phone: 301 851-3509.

RIN: 0579-AC92

12. Branding Requirements for Bovines Imported Into the United States From Mexico

E.O. 13771 Designation: Deregulatory.

Legal Authority: 7 U.S.C. 1622; 7 U.S.C. 8301 to 8317; 21 U.S.C. 136 and 136a; 31 U.S.C. 9701

Abstract: This rulemaking amends the regulations regarding the branding of bovines imported into the United States from Mexico. We are taking this action at the request of the Government of Mexico to address issues that have arisen with the branding requirement for these bovines. These changes will help prevent inconsistencies in branding that can result in bovines being rejected for import into the United States.

Completed:

Reason | Date | FR Cite
Final Rule | 12/14/18 | 83 FR 64223
Final Action Effective | 01/14/19 |

Regulatory Flexibility Analysis Required: Yes.

Agency Contact: Betzaida Lopez, Phone: 301 851-3300.

RIN: 0579-AE38

BILLING CODE 3410-34-P

DEPARTMENT OF AGRICULTURE (USDA)

Food Safety and Inspection Service (FSIS)

Completed Actions

13. Performance Standards for the Production of Processed Meat and Poultry Products

E.O. 13771 Designation: Other.

Legal Authority: 21 U.S.C. 451 et seq.; 21 U.S.C. 601 et seq.

Abstract: FSIS is proposing to establish pathogen reduction performance standards for all ready-to-eat (RTE) and partially heat-treated meat and poultry products. The performance standards spell out the objective level of pathogen reduction that establishments must meet during their operations in order to produce safe products, but allow the use of customized, plant-specific processing procedures other than those prescribed in their earlier regulations. With HACCP, food safety performance standards give establishments the incentive and flexibility to adopt innovative, science-based food safety processing procedures and controls, while providing objective, measurable standards that can be verified by Agency inspectional oversight. This set of performance standards will include and be consistent with standards already in place for certain ready-to-eat meat and poultry products.

Completed:

Reason | Date | FR Cite
Supplemental NPR—Withdrawn | 03/28/16 | 81 FR 17338

Regulatory Flexibility Analysis Required: Yes.

Agency Contact: Rachel Edelstein, Phone: 202 205-0495, Fax: 202 720-2025, Email: rachel.edelstein@fsis.usda.gov.

RIN: 0583-AC46

[FR Doc. 2019-12325 Filed 6-21-19; 8:45 am]

BILLING CODE 3410-DM-P